DEPARTMENT OF AGRICULTURE

Submission for OMB Review; Comment Request

November 21, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by December 26, 2013 will be considered. Written comments should be addressed to: Desk Officer for Agriculture, Office of Information and Regulatory Affairs, Office of Management and Budget (OMB), New Executive Office Building, 725—17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Pesticide Protection Equipment.

OMB Control Number: 0535-NEW.

Summary of Collection: The primary objectives of the National Agricultural Statistics Service (NASS) are to prepare and issue state and national estimates of crop production, livestock production, economic statistics, and environmental statistics related to agriculture and to conduct the Census of Agriculture and its follow-on surveys. NASS has been asked by The National Institute for Occupational Safety and Health (NIOSH) to assist in its efforts to reduce the risks of illness and injury associated with pesticide exposure due to incorrect personal protective equipment (PPE) practices. NIOSH is mandated to conduct research and make recommendations for the prevention of work-related disease and injury under Section 20 of the Occupational Safety and Health Act, 29 U.S.C. 669 and Section 501 of the Federal Mine Safety and Health Act, 30 U.S.C. 951. General authority for these data collection activities by NASS is granted under U.S.C. Title 7, Section 2204(a). This pilot study project will concentrate on assessing pesticide safety practices among Pennsylvania crop farm operators who have personally applied pesticides for crop production using methods other than aerial applications and enclosed cab vehicles.

Need and Use of the Information: The Pesticide Safety Practices among Pennsylvania Farms Survey will use a sampling universe defined as crop growers in PA. The survey will be conducted in a two step process. First, the screening phrase will consist of an information letter, blank screening form and a postage paid return envelope. Finally, operations will be selected from the screening phase to conduct the survey. The primary goals of the project are: (1) To determine the extent to which PA crop growers use appropriate PPE practices; and (2) when applicable, to identify the factors that cause incorrect PPE practices, and (3) when applicable, identify the factors that would motivate a crop grower to start using correct practices. Without this information NIOSH is not able to verify whether these applicators are using correct practices and potentially at increased risk for pesticide exposure and related illnesses.

Description of Respondents: PA crop producers who applied pesticides in the past six months using a method other than helicopters, airplanes, or equipment pulled by enclosed cab tractors or ATVs.

Number of Respondents: 3,000.

Frequency of Responses: Reporting: One time.

Total Burden Hours: 822.

Charlene Parker,
Departmental Information Collection Clearance Officer.

[FR Doc. 2013-28307 Filed 11-25-13; 8:45 am]

BILLING CODE 3410-20-P